DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) National Advisory Council will meet on April 30, 2009 from 1 p.m. to 3 p.m. via teleconference.

The meeting will include discussion and evaluation of grant applications reviewed by Initial Review Groups. Therefore, the meeting will be closed to the public as determined by the Acting Administrator, SAMHSA, in accordance with Title 5 U.S.C. 552b(c)(6) and 5 U.S.C. App. 2, Section 10(d).

Substantive program information, a summary of the meeting, and a roster of Council members may be obtained either by accessing the SAMHSA Committee's Web site at https://nac.samhsa.gov/CSAPcouncil/index.aspx as soon as possible after the meeting, or by contacting CSAP National Advisory Council's Designated Federal Official, Ms. Tia Haynes (see contact information below).

Committee Name: Substance Abuse and Mental Health Services Administration, Center for Substance Abuse Prevention National Advisory Council.

Date/Time/Type: April 30, 2009, 1 p.m. to 3 p.m.: CLOSED.

Place: 1 Choke Cherry Road, Conference Room 4-1058, Rockville, Maryland 20857.

Contact: Tia Haynes, Designated Federal Official, SAMHSA/CSAP National Advisory Council, 1 Choke Cherry Road, Room 4-1066, Rockville, MD 20857, Telephone: (240) 276-2436; FAX: (240) 276-2430, E-mail: tia.haynes@samhsa.hhs.gov.

Toian Vaughn,
Committee Management Officer, Substance Abuse and Mental Health, Services Administration.

[FR Doc. E9-6960 Filed 3-27-09; 8:45 am]

BILLING CODE 4162-20-P